DEPARTMENT OF TRANSPORTATION

Pipeline and Hazardous Materials Safety Administration

49 CFR Part 195

[Docket No. PHMSA-2009-0203]

Pipeline Safety: Technical Pipeline Safety Advisory Committee Meeting

AGENCY: Pipeline and Hazardous Materials Safety Administration (PHMSA), DOT.

ACTION: Notice.

SUMMARY: This notice announces a public meeting of the Technical Hazardous Liquid Pipeline Safety Standards Committee (THLPSSC). The committee will meet to consider and vote on a rulemaking to apply the Federal pipeline safety regulations to the remaining unregulated rural onshore hazardous liquid low-stress pipelines in accordance with current law.

DATES: The meeting will be on Monday, December 13, 2010, 1 p.m. to 4 p.m. EST. The THLPSSC will take part in the meeting by telephone conference call. Attendees should register in advance at http://primis.phmsa.dot.gov/meetings/MtgHome.mtg?mtg=68. PHMSA will post any new information including meeting presentations on the PHMSA/Office of Pipeline Safety Web page (http://PHMSA.dot.gov) about 15 days before the meeting takes place.

ADDRESSES: The public may attend the meeting at the U.S. Department of Transportation (DOT), 1200 New Jersey Avenue, SE., Washington, DC 20590, Room E27-302. For any questions, please contact the individual listed under FOR FURTHER INFORMATION CONTACT by December 1, 2010.

Comments on the meeting may be submitted to the docket in the following ways:

• E-Gov Web Site: http://www.regulations.gov. This site allows the public to enter comments on any Federal Register notice issued by any agency.

• Fax: 1-202-493-2251.

• Mail: Docket Management Facility, DOT, 1200 New Jersey Avenue, SE., West Building, Room W12-140, Washington, DC 20590-001.

• Hand Delivery: Room W12-140 on the ground level of the DOT West Building, 1200 New Jersey Avenue, SE., Washington, DC, between 9 a.m. and 5 p.m., Monday through Friday, except on Federal holidays.

Instructions: Identify the docket numbers, PHMSA-2009-0203 and PHMSA-2008-0186 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000 (65 FR 19477) or view the Privacy Notice at http://www.regulations.gov before submitting any such comments.

Docket: For access to the docket or to read background documents or comments, go to http://www.regulations.gov at any time or to Room W12-140 on the ground level of the DOT West Building, 1200 New Jersey Avenue, SE., Washington, DC, between 9 a.m. and 5 p.m., Monday through Friday, except Federal holidays.

If you wish to receive confirmation of receipt of your written comments, please include a self-addressed, stamped postcard with the following statement: “Comments on PHMSA-2009-0230 and PHMSA-2008-0186.” The Docket Clerk will date-stamp the postcard prior to returning it to you via the U.S. mail. Please note that due to delays in the delivery of U.S. mail to Federal offices in Washington, DC, we recommend that persons consider an alternative method (internet, fax, or professional delivery service) of submitting comments to the docket and ensuring their timely receipt at DOT.

Privacy Act Statement

Anyone may search the electronic form of comments received in response to any of our dockets by the name of the individual who submitted the comment (or signing the comment, if submitted on behalf of an association, business, labor union, etc.). DOT's complete Privacy Act Statement was published in the Federal Register on April 11, 2000 (65 FR 19477).

Information on Services for Individuals With Disabilities

For information on facilities or services for individuals with disabilities, or to seek special assistance at the meeting, please contact Cheryl Whetsel at 202-366-4431 by December 1, 2010.

FOR FURTHER INFORMATION CONTACT: For information about the meetings, contact Cheryl Whetsel by phone at 202-366-4431 or by e-mail at cheryl.whetsel@dot.gov or for technical contents about the proposed rule contact Mike Israni by phone at 202-366-4595 or by e-mail at mike.israni@dot.gov.

SUPPLEMENTARY INFORMATION:

I. Meeting Details

Members of the public may attend and make a statement during the advisory committee meetings. For a better chance to speak at the meetings, please contact the individual listed under FOR FURTHER INFORMATION CONTACT by December 1, 2010.

II. Committee Background

The THLPSSC advises PHMSA on proposed safety standards, risks assessments, and safety policies for hazardous liquid pipelines. The committee falls under the Federal Advisory Committee Act (Pub. L. 92-463, 5 U.S.C. App. 1) and is authorized by the Federal pipeline safety law (49 U.S.C. 60115). The committee consists of 15 members—with one-third of the membership selected from each of three groups: Federal and state government, the regulated industry, and the public. The committee advises PHMSA on technical feasibility, practicability, and cost-effectiveness of each proposed pipeline safety standard. PHMSA staff may also provide an update on several regulatory and policy initiatives if time allows.

III. Preliminary Agenda

Pursuant to Section 4 of the Pipeline Inspection, Protection, Enforcement, and Safety Act of 2006 (Pub. L. 109-468), PHMSA published a proposed rule titled: “Pipeline Safety: Applying Safety Regulation to All Rural Onshore Hazardous Liquid Low-Stress Lines” on June 22, 2010 (75 FR 35366). The meeting agenda will include the committee's discussion and vote on the proposed rule, and on the associated regulatory analysis and environmental assessment.

Issued in Washington, DC, on November 19, 2010.
Linda Daugherty,
Deputy Associate Administrator for Policy and Programs.

[FR Doc. 2010-29689 Filed 11-24-10; 8:45 am]

BILLING CODE 4910-60-P